DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Social Network Analysis of a Service System for Transition Aged Youth—New

SAMHSA's, Center for Mental Health Services will seek information about the change in the network of social services in one community, Clark County Washington, as a result of a Center for Mental Health Services funded grant initiative, the Options Program. The Options program was one of 5 funded sites across the country. Each site received four years of funding to build comprehensive supports that help adolescents with serious emotional disturbance and their families make the difficult transition from adolescent to adult functioning through the age of 25. This grant program, called the Partnerships for Youth Transition, aims to remediate some of the most difficult system barriers that interfere with transition system building by providing community leaders and advocates funding for direct services and infrastructure building, technical assistance to help shape the vision, and time to establish programs and interagency relationships. Since no single site in the country has ever successfully built a transition support system we do not know whether combining the resources of this grant, with the resources of the community are sufficient to make significant strides in transition system building. It is imperative to answer this question systematically and rigorously in order to guide future efforts.

There have been 110 agencies identified in Clark County that could potentially serve youth or young adults with serious mental, emotional and behavioral disorders. This study will conduct network analysis by interviewing one key informant from each of these programs about their organization's professional relationship with other social services. The Social Network Questionnaire was previously developed for use in several studies in mental health and homeless services. Questions focus on aspects of professional relationship such as how often clients are referred to another agency and how often staff meet for client planning purposes with staff from another agency, as well as some background information about the agency and the quality of services offered. An additional 10 items focus on whether the program is following guidelines for exemplary practice with transition aged youth. Findings will be compared to data collected prior to program initiation.

The following table summarizes the estimated response burden for this project.

Respondent | Number of respondents | Responses/ respondent | Total responses | Hours per response | Total hour burden
Key informants from social services in Clark County | 110 | 1 | 110 | 1.25 | 137.5

Send comments to Summer King, SAMHSA Reports Clearance Officer, Room 7-1044, One Choke Cherry Road, Rockville, MD 20857. Written comments should be received within 60 days of this notice.

Dated: January 27, 2006.
Anna Marsh,
Executive Officer, SAMHSA.

[FR Doc. E6-1561 Filed 2-3-06; 8:45 am]

BILLING CODE 4162-20-P